SMALL BUSINESS ADMINISTRATION

[License No. 05/75-0257]

Cardinal Growth, L.P.; Notice Seeking Exemption Under Section 312 of the Small Business Investment Act, Conflicts of Interest

Notice is hereby given that Cardinal Growth, L.P., 311 South Wacker Driver, Suite 5500, Chicago, IL 60606, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). Cardinal Growth, L.P. provided financing to GreenRock Environmental Management, Inc., 1400 West Carroll Avenue, Chicago, IL 60607. The financing was used to purchase office and computer related equipment for the small business.

The financing is brought within the purview of § 107.730(a)(1) of the Regulations because the CEO of GreenRock Environmental Management, Inc. assumed financial responsibilities at Cardinal Growth, L.P. within 6 months of the financing. According to the definition of Associate in § 107.50, Section 10 if an Associate relationship exists at any time within 6 months before or after the date of a Financing, then the Associate relationship is considered to exist on the date of the Financing.

Therefore, this transaction is considered a financing of an Associate requiring an exemption. Notice is hereby given that any interested person may submit written comments on the transaction within fifteen days of the date of this publication to the Associate Administrator for Investment, U.S. Small Business Administration, 409 Third Street, SW., Washington, DC 20416.

Dated: January 6, 2010.
Sean Greene,
Associate Administrator for Investment.

[FR Doc. 2010-2717 Filed 2-8-10; 8:45 am]

BILLING CODE P